DEPARTMENT OF HEALTH AND HUMAN SERVICES

Administration on Aging

[Program Announcement No. AoA-01-13]

Grants to Indian Tribal Organizations for Supportive and Nutritional Services for Older Indians

AGENCY: Administration on Aging (AoA), HHS.

ACTION: Announcement of availability of funds and opportunity to apply under the Older Americans Act, Title VI, Grants for Native Americans, Part A—Indian Program.

Applicant Eligibility and Requirements: The AoA will accept applications for funding in fiscal year (FY) 2002 under the Older Americans Act, title VI, Grants for Native Americans, part A—Indian Program, from all current title VI, part A grantees, current grantees who wish to leave a consortium and apply as a new grantee, and eligible federally recognized Indian tribal organizations that are not now participating in title VI and would like to apply as a new grantee. Successful applications from new grantees will be funded if funds permit.

Availability of Funds: Approximately $23 million dollars may be available in Fiscal Year 2002 to fund these grants.

DATES: The deadline date for the submission of applications is January 18, 2002.

FOR FURTHER INFORMATION CONTACT: M. Yvonne Jackson, Ph.D.; Office for American Indian, Alaskan Native, and Native Hawaiian Programs; Administration on Aging; Department of Health and Human Services; Cohen Building; Room 4743; 330 Independence Avenue, SW., Washington, DC 20201; telephone (202) 619-2713; fax (202) 260-1012; email: Yvonne.Jackson@aoa.gov.

SUPPLEMENTARY INFORMATION:

1. Background and Program Purpose

The Administration on Aging (AoA) is responsible for administering title VI, part A of the Older Americans Act (OAA). Through this title grants are awarded to Indian tribal organizations representing federally recognized Tribes for providing nutritional and supportive services to Indian elders.

The 1978 Amendments to the Older Americans Act created title VI, Grants for Indian Tribal Organizations, to promote the delivery of supportive and nutritional services for Indian elders that are comparable to services provided under title III of the OAA. (Title III of the OAA, entitled Grants for State and Community Programs on Aging, is the nationwide program of supportive and nutritional services for persons over age 60 of all ethnic groups.)

In the OAA Amendments of 1987, the name of title VI was changed to Grants for Native Americans, and part B, Native Hawaiian Programs, was added.

Nutritional services and information and assistance services are required by the OAA. Nutritional services include congregate meals and home-delivered meals. Supportive services include information and assistance, transportation, chore services, and other supportive services that contribute to the welfare of older Native Americans.

2. Eligibility of an Indian Tribal Organization or Indian Tribe To Receive a Grant

To be eligible to receive a grant, a tribal organization or Indian tribe must meet the application requirements contained in sections 612(a), 612(b), and 612(c) of the OAA, which are: 612(a): (1) the tribal organization represents at least 50 individuals who are 60 years of age or older; and (2) the tribal organization demonstrates the ability to deliver supportive services, including nutritional services. Section 612(b): an Indian tribe represented by an organization specified in subsection (a) shall be eligible for only 1 grant under this part for any fiscal year. Section 612(c): for purposes of title VI, part A, the terms Indian tribe and tribal organization have the same meaning as in section 4 of the Indian Self Determination and Education Assistance Act (25 U.S.C. 450b).

This announcement concerns all federally recognized Indian tribal organization, those currently participating in title VI, part A individually or as members of a consortium and those that are not currently participating in title VI, part A.

3. Available Funds

Distribution of funds among tribal organizations is subject to the availability of appropriations to carry out title VI, part A. As stated in section 614A(a) of the Act, the amount of the grant made under this part to a tribal organization for FY 1992 and for each subsequent fiscal year shall not be less than the amount of the grant made under this part to the tribal organization for FY 1991. As stated in section 614A(b) of the Act, if the funds appropriated to carry out this part in a fiscal year subsequent to FY 1991 exceed the funds appropriated to carry out this part in FY 1991, then the amount of the grant (if any) made under this part to a tribal organization for the subsequent fiscal year shall be: (1) increased by such amount as the Assistant Secretary considers to be appropriate, in addition to the amount of any increase required by subsection (a), so that the grant equals or more closely approaches the amount of the grant made under this part to the tribal organization for FY 1980; or (2) an amount the Assistant Secretary considers to be sufficient if the tribal organization did not receive a grant under this part for either FY 1980 or FY 1991.

Applications from current grantees who are a part of a consortium and wish to leave the consortium will be treated as new grant applications. Successful new grant applications for both current grantees who are leaving a consortium and tribal organizations that are not current grantees will be funded pending availability of additional funds.

Information on typical grant levels in FY 2001 is given below as a guide to POSSIBLE funding levels for Tribes representing the following documented numbers of Indian elders over age 60:

Population range (number of older Indians age 60 years and over, represented by the tribal organization) | Amounts of awards in FY 2001
50 to 100 | $69,110
101 to 200 | 78,420
201 to 300 | 89,040
301 to 400 | 100,350
401 to 500 | 110,980
501 to 1500 | 128,550
1501+ | 168,800

4. Application Process

Applicants should submit applications, describing their proposed plans for nutritional and supportive services for older Indians for project period April 1, 2002—March 31, 2005, as described in section 5 below, Content of the Application.

A three-year project period was chosen in order to reduce the paperwork burden on the grantees. It is the intent of this agency to conduct on site monitoring at least once during the three-year project period.

The Program Performance and Financial Status reports, due on a semi-annual basis, will be reviewed for compliance with the program regulations. Failure to submit the required reports during the project period may result in loss of future funds and possibly termination of the grant within the project period.

Thirty days prior to the end of each budget period within the three-year project period grantees shall notify AoA as to their desire to continue as a grantee. Failure to submit this documentation within the required timeframe may result in loss of grant funding. At the beginning of each budget period within the three-year project period grantees will be notified of the funding level for the subsequent year.

One original application, signed by the principal official of the Tribe, and two copies of the complete application, including all attachments, must be submitted to U.S. Department of Health and Human Services; Administration on Aging; Margaret A. Tolson; Director; Grants Management Division; Room 4260; Cohen Building; 330 Independence Avenue, SW., Washington, DC 20201. Incomplete applications and applications postmarked after the closing date will not be considered for funding.

5. Content of the Application

The application must meet the criteria in sections 614(a) and (b) of the Act, and title 45 of the Code of Federal Regulations, Section 1326.19. The application may be presented in any format selected by the tribal organization. Contact the AoA Regional Office in your geographic area if you have questions concerning the content of the application. The application must include the following information:

A. Objectives and Need for Assistance

This section must include objectives, expressed in measurable terms, which are related to the supportive and nutrition service needs of the elders to be represented by the Tribal Organization. This section must also include a discussion of how the needs were determined.

B. Results or Benefits Expected

The application should describe the results or benefits expected from each service proposed.

C. Approach

(1) Description and Method of Delivery of Each Service

(a) Nutrition: Nutrition services are required. There should be a description of the methods, facilitates, and staff to be used in preparing, serving, and delivering meals, and the estimated number of persons to be served. The nutrition services provided, either directly or by way of a grant or contract, must be substantially in compliance with the provisions of part C, title III.

If no title VI, part A funds are to be used for nutrition services, the application must state how such services are provided in other ways, and how they are financed.

(b) Information and Assistance: Information and assistance services are required. They must be available for older Indians living in the title VI, part A service area and there should be a description of what information and assistance services will be provided and how they will be provided. The estimated number of individuals to be served should be stated. If no title VI, part A funds are to be used for information and assistance services, the application must state how such services are provided in other ways, and how they are financed.

(c) Other Supportive Services: The application must describe any other supportive services to be provided wholly or partly by title VI, part A funds. The description should include what supportive services will be provided and how they will be provided. The approximate number of persons to be served by each service should be stated.Legal assistance and ombudsman services may be provided, but are not required. However, if provided, they should be reported as Supportive Services.If a tribal organization elects to provide legal services, it must substantially comply with the requirements in title 45 of the Code of Federal Regulations Section 1321.71, and all legal assistance providers must comply fully with the requirements in Section 1321.71(d) through Section 1321.71(k).

Transportation of persons to nutrition sites or other places is to be considered as a Supportive Service.

(d) Coordination with title III: The application should provide a description of how title VI and title III resources and services are to be coordinated within the title VI service area, including information and assistance service.

(2) Evaluation Criteria

The application must discuss the criteria to be used to evaluate the results and successes of the program, based on the objectives and results or benefits expected indicated in Item A and B above. It will also explain the methodology that will be used to determine if the needs identified and discussed are being met and if the results and benefits identified in Item B above are being achieved.

D. Geographic Location

The application must include an appropriate narrative description of the geographical area to be served and an assurance that procedures will be adopted to ensure against duplicate services being provided to the same recipients. A map of the designated service area may be included in the application.

E. Additional Information:

(1) Older Indians in the Title VI, Part A Service Area

The law requires that a tribal organization must represent at least 50 persons aged 60 years or over in order to be eligible for title VI funding. Therefore, the number of persons aged 60 or over living in the proposed title VI service area must be stated in the application. The tribal organization may use the Census Bureau population figures, or may develop its own population statistics, but they must be approved by the Bureau of Indian Affairs or your tribal enrollment clerk in order to establish eligibility, as required in section 614(b) of the Older Americans Act, as amended. The amount of the grant is based on this number of Indians or Alaskan Natives age 60 years or over in the proposed service area. Thus, the application should include only the number if Indians and Alaskan Natives age 60 years or over in the proposed service area and not the total population census of all tribal members, age 60 and above, unless all the tribal members live in the proposed service area. If there is overlap between two or more title VI, part A applicants, as stated under Geographic Location, the eligible elders can only be counted once and included in one application. The applicants are responsible for determining how the eligible elders will be counted. The same elder may not be counted by more than one applicant. This must be stated clearly in the application and signed by the principal official of the tribal organization.

As a separate matter, the regulations allow a Tribe to define, based on its own criteria, who the Tribe will consider to be an older Indian for purposes of eligibility to receive title VI services. If a Tribe selects a different definition of older Indian for service delivery, the application must state the age selected, and the number of Indian under age 60 eligible to be served. All Tribes in a consortium must use the same age for older Indian.

(2) Resolution

The tribal organization representing a federally recognized Tribe must submit an original copy of the Tribal council resolution authorizing participation in title VI, part A for the grant period April 1, 2002 to March 31, 2005. If the tribal organization represents a consortium of more than one Tribe, a resolution is required from each participating Tribe, specifically authorizing representation by the tribal organization for the purpose of title VI, part A of the Older Americans Act for the grant period April 1, 2002 to March 31, 2005.

(3) Program Assurance

Title VI, part A Program Assurances must be included in the application. The title VI, part A Program Assurances are those provisions identified in section 614(a) of the Older Americans Act, and in title 45 of the Code of Federal Regulations Section 1326.19(d), issued August 31, 1988 (see Appendix B). The tribal organization must state that it agrees to abide by all the provisions for the entire project period, April 1, 2002—March 31, 2005.

Copies of the title III and title VI current law and regulations, and of part 92, may be obtained from the Regional Administrator for the Administration on Aging. (See Appendix A)

(4) Certification Forms

Certifications are required of the applicant regarding (a) lobbying; (b) debarment, suspension, and other responsibility matters; and (c) drug-free workplace requirements. Please note that a duly authorized representative of the applicant organization must attest to the applicant's compliance with these certifications.

(5) Identifying Information

Applications must identify both the principal official of the tribal organization, and the proposed title VI program director: Name, Title, Address including Zip Code, Telephone Number, and, if available, the FAX number and E-mail address. The tribal organization's EIN (Employer Identification Number) must also be included.

If the applicant tribal organization is a consortium, the applicant must list the federally recognized tribes, which are included. The tribal resolution from each tribe in the consortium must be included in the application.

(6) Closing Date for Application

To be eligible for consideration, applications must be received or postmarked on or before January 18, 2002. (Applicants are cautioned to request a legibly dated U.S. Postal service postmark, or to obtain a legibly dated receipt from a commercial carrier or the U.S. Postal Service. Private metered postmarks are not acceptable as proof of timely mailing.)

(7) Action on Applications

Awards will be made by the Assistant Secretary for Aging. Funding decisions will be announced as soon as possible.

Catalog of Federal Domestic Assistance Program #93.655 Grants to Indian Tribes and Native Hawaiians. This program Announcement is not subject to EO 12372.

Dated: September 10, 2001.
Josefina G. Carbonell,
Assistant Secretary for Aging.

[FR Doc. 01-23171 Filed 9-14-01; 8:45 am]

BILLING CODE 4154-01-P